DEPARTMENT OF JUSTICE

Antitrust Division

Notice Pursuant to the National Cooperative Research and Production Act of 1993—Border Security Technology Consortium

Notice is hereby given that, on October 5, 2012, pursuant to Section 6(a) of the National Cooperative Research and Production Act of 1993, 15 U.S.C. 4301 et seq. (“the Act”), Border Security Technology Consortium (“BSTC”) has filed written notifications simultaneously with the Attorney General and the Federal Trade Commission disclosing changes in its membership. The notifications were filed for the purpose of extending the Act's provisions limiting the recovery of antitrust plaintiffs to actual damages under specified circumstances. Specifically, Accenture Federal Services LLC, Arlington, VA; ADSS Incorporated, Tucson, AZ; Aerostar International, Inc., Sioux Falls, SD; Azos AI, LLC, Haymarket, VA; Border Solutions Group, Fabius, NY; CACI-CMS Information Systems, INC., Arlington, VA; Carolina Unmanned Vehicles, Inc., Raleigh, NC; CLS America, Lanham, MD; Command Consulting Group, LLC, Washington, DC; Consolidated Resource Imaging, LLC, Grand Rapids, MI; Digital Barriers Services, LTD, London, UNITED KINGDOM; EADS North America, Herndon, VA; General Dynamics C4 Systems, Scottsdale, AZ; General Robotics, Sherman Oaks, CA; Global Technical Systems, Virginia Beach, VA; Hurley IR, Mount Airy, MD; ICx Tactical Platforms, Forest Park, GA; Innovative Signal Analysis, Inc., Richardson, TX; Liquid Robotics, Sunnyvale, CA; Lockheed Martin Corporation, Gaithersburg, MD; Morpho Detection, Newark, CA; Morpho Trak, Alexandria, VA; NAVISTAR, Lisle, IL; PRO Barrier Engineering, LLC, Middletown, PA; ProQual-I.T., Inc., Rockville, MD; Rumpf Associates International, Inc., Alexandria, VA; SAS Institute Inc., Cary, NC; STARA Technologies, Inc., Gilbert, AZ; Symetrica, Maynard, MA; TCOM, LP, Elizabeth City, NC; Teradata Government Systems, LLC, Annapolis Junction, MD; Terma North America, Inc., Arlington, VA; Terrahawk, LLC, Dallas, TX; Transcend Engineering and Technology, LLC, Stockbridge, VT; Ultra Electronics Prologic, Manassas, VA; Ventera, Reston, VA; Washington DC Homeland Security Roundtable, Washington, DC; WGS Systems, LLC, Frederick, MD; Whitney Bradley & Brown, Inc., Reston, VA, and Worldwide Aeros Corporation, Montebello, CA, have been added as parties to this venture.

No other changes have been made in either the membership or planned activity of the group research project. Membership in this group research project remains open, and BSTC intends to file additional written notifications disclosing all changes in membership.

On May 30, 2012, BSTC filed its original notification pursuant to Section 6(a) of the Act. The Department of Justice published a notice in the Federal Register pursuant to Section 6(b) of the Act on June 18, 2012 (77 FR 36292).

Patricia A. Brink,
Director of Civil Enforcement, Antitrust Division.

[FR Doc. 2012-27063 Filed 11-5-12; 8:45 am]

BILLING CODE 4410-11-P